DEPARTMENT OF HEALTH AND HUMAN SERVICES

Centers for Disease Control and Prevention

[Program Announcement 03005]

Cooperative Agreement With the United Nations Children's Fund; Notice of Intent To Fund Single Eligibility Award

A. Purpose

The Centers for Disease Control and Prevention (CDC) announces the intent to fund fiscal year (FY) 2003 funds for a cooperative agreement program for polio eradication, measles mortality reduction and control, and reduction and control of other vaccine preventable diseases.

B. Eligible Applicant

Assistance will be provided only to the United Nations Children's Fund (UNICEF). UNICEF is the only organization with a worldwide vaccine procurement and distribution network. UNICEF has established relationships with member governments and their immunization programs.

C. Funding

Approximately $60,000,000 is available in FY 2003 to fund this award. It is expected that the award will begin on or before April 1, 2003, and will be made for a 9-month budget period in year one, and 12-month budget periods for years two through five. The project period will be up to five years. Funding estimates may change.

D. Where To Obtain Additional Information

For general comments or questions about this announcement, contact: Technical Information Management, CDC Procurement and Grants Office, 2920 Brandywine Road, Atlanta, GA 30341-4146, Telephone: (770) 488-2700.

For technical questions about this program, contact: Denise Johnson, 1600 Clifton Road NE., Mailstop E-05, Atlanta, GA 30333, Telephone: (404) 639-8252, E-mail: Djohnson@cdc.gov.

Dated: February 26, 2003.
Sandra R. Manning,
Director, Procurement and Grants Office, Centers for Disease Control and Prevention.

[FR Doc. 03-5388 Filed 3-6-03; 8:45 am]

BILLING CODE 4163-18-P